DEPARTMENT OF TRANSPORTATION

Federal Motor Carrier Safety Administration

[Docket No. FMCSA-2020-0202]

Agency Information Collection Activities; Revision of an Approved Information Collection: Motor Carrier Records Change Form

AGENCY: Federal Motor Carrier Safety Administration (FMCSA), DOT.

ACTION: Notice and request for comments.

SUMMARY: In accordance with the Paperwork Reduction Act of 1995, FMCSA announces its plan to submit the Information Collection Request (ICR) described below to the Office of Management and Budget (OMB) for its review and approval and invites public comment. The purpose of this ICR titled, “Motor Carrier Records Change Form,” is to collect information required by the Office of Registration (MC-RS) to process name changes, address changes, and reinstatements of operating authority for motor carriers, freight forwarders, and brokers.

DATES: We must receive your comments on or before January 25, 2021.

ADDRESSES: You may submit comments identified by Federal Docket Management System (FDMS) Docket Number FMCSA-2020-0202 using any of the following methods:

• Federal eRulemaking Portal: http://www.regulations.gov. Follow the online instructions for submitting comments.

• Fax: 1-202-493-2251.

• Mail: Docket Operations; U.S. Department of Transportation, 1200 New Jersey Avenue SE, West Building, Ground Floor, Room W12-140, 20590-0001.

• Hand Delivery or Courier: West Building, Ground Floor, Room W12-140, 1200 New Jersey Avenue SE, Washington, DC, between 9 a.m. and 5 p.m. e.t., Monday through Friday, except Federal holidays.

Instructions: All submissions must include the Agency name and docket number. For detailed instructions on submitting comments and additional information on the exemption process, see the Public Participation heading below. Note that all comments received will be posted without change to http://www.regulations.gov, including any personal information provided. Please see the Privacy Act heading below.

Docket: For access to the docket to read background documents or comments received, go to http://www.regulations.gov, and follow the online instructions for accessing the dockets, or go to the street address listed above.

Privacy Act: Anyone is able to search the electronic form of all comments received into any of our dockets by the name of the individual submitting the comment (or signing the comment, if submitted on behalf of an association, business, labor union, etc.). You may review DOT's complete Privacy Act Statement for the Federal Docket Management System published in the Federal Register on January 17, 2008. (73 FR 3316), or you may visit http://edocket.access.gpo.gov/2008/pdfE8-794.pdf.

Public Participation: The Federal eRulemaking Portal is available 24 hours each day, 365 days each year. You can obtain electronic submission and retrieval help and guidelines under the “help” section of the Federal eRulemaking Portal website. If you want us to notify you that we received your comments, please include a self-addressed, stamped envelope or postcard, or print the acknowledgement page that appears after submitting comments online. Comments received after the comment closing date will be included in the docket and will be considered to the extent practicable.

FOR FURTHER INFORMATION CONTACT: Jeff Secrist, Chief, Office of Registration & Safety Information, West Building 6th Floor, 1200 New Jersey Avenue SE, Washington, DC 20590. Telephone: (202) 385-2367; email jeff.secrist@dot.gov.

SUPPLEMENTARY INFORMATION:

Background: The Federal Motor Carrier Safety Administration (FMCSA) registers for-hire motor carriers under 49 U.S.C. 13902, surface freight forwarders under 49 U.S.C. 13903, and property brokers under 49 U.S.C. 13904. Each registration is effective from the date specified under 49 U.S.C. 13905(c). 49 CFR part 365.413, “Procedures for changing the name or business form of a motor carrier, freight forwarder, or property broker,” states that motor carriers, forwarders, and brokers must submit the required information to FMCSA's Office of Registration (MC-RS) requesting the change. 49 CFR 360.3(f) mentions fees that FMCSA collects for “petition for reinstatement of revoked operating authority,” but does not provide any specifics for the content that petition should take.

Motor carriers, freight forwarders, and property brokers are required to use Form MCSA-5889 to request a name or address change and to request reinstatement of a revoked operating authority. Respondents can submit the form online through the Licensing and Insurance (L&I) website, by fax, or by mail. According to data collected between 2017 and 2019, annually, 1% of forms are submitted by mail; 32% are submitted by fax; and 67% are submitted online. The information collected is then entered in the L&I database by FMCSA staff.

Form MCSA-5889 enables FMCSA to maintain up-to-date records so that the Agency can recognize the entity in question in case of enforcement actions or other procedures required to ensure that the carrier is fit, willing, and able to provide for-hire transportation services, and so that entities whose operating authority has been revoked can resume operation if they are not otherwise blocked from doing so. This multi-purpose form, filed by registrants on a voluntary, as-needed basis, simplifies the process of gathering the information needed to process the entities' requests in a timely manner, with the least amount of effort for all parties involved.

To reduce burden on respondents, increase consistency among FMCSA forms, and to ensure regulatory compliance, FMCSA removed and added the following questions from the currently approved Form MCSA-5889:

1. Added a Yes/No question: “Do you currently have, or have you had within the last three years of the date of this application, relationships involving common stock, common ownership, common management, common control or familial relationships with any FMCSA-regulated entities?” The purpose of this is to close the affiliation disclosure loophole. If the respondent answers “Yes”, they must then report the affiliate's USDOT number, MC/FF/MX number, legal name, doing business as name (if applicable), and current safety rating.

2. Added the Applicant's Oath. The applicant must read the oath, print their name and title, and sign the form. The purpose of this addition is to increase accountability and make Form MCSA-5889 consistent with similar FMCSA forms.

3. Removed one question asking whether the applicant or its representative completed the form. This was removed because the information is not necessary.

4. Removed three questions: Name, title, and signature. This was done because, with the addition of the Applicant's Oath, these questions became redundant.

The form prompts users to report the following data points (whichever are relevant to their records change request):

1. Requestor's fax number, email address, and applicant's oath.

2. Entity's legal/doing business as names, USDOT number, docket MC/MX/FX number, current street address, and phone numbers.

3. Affiliations with FMCSA-licensed entities.

4. Requested changes to the entity's address.

5. Requested changes to the entity's name and/or ownership, management or control.

6. Type(s) of operating authority the entity wishes to reinstate.

7. Credit card information (name, number, expiration date, address, date) if filing a name change or reinstatement.

Title: Motor Carrier Records Change Form.

OMB Control Number: 2126-0060.

Type of Request: Revision.

Respondents: For-hire motor carriers, brokers, and freight forwarders.

Estimated Number of Respondents: 27,122.

Estimated Time per Response: 15 minutes per response.

Expiration Date: August 31, 2021.

Frequency of Response: On occasion.

Estimated Total Annual Burden: 6,781 hours [27,122 responses × 0.25 hours per response].

Public Comments Invited: You are asked to comment on any aspect of this information collection, including: (1) Whether the proposed collection is necessary for the performance of FMCSA's functions; (2) the accuracy of the estimated burden; (3) ways for FMCSA to enhance the quality, usefulness, and clarity of the collected information; and (4) ways that the burden could be minimized without reducing the quality of the collected information. The Agency will summarize or include your comments in the request for OMB's clearance of this information collection.

Issued under the authority delegated in 49 CFR 1.87.
Tom Keane,
Associate Administrator, Office of Research and Registration.

[FR Doc. 2020-26058 Filed 11-24-20; 8:45 am]

BILLING CODE 4910-EX-P